DEPARTMENT OF TRANSPORTATION

Federal Aviation Administration

14 CFR Part 97

[Docket No. 30716; Amdt. No. 3366]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 15, 2010. The compliance date for each SIAP, associated Takeoff Minimums, and ODP is specified in the amendatory provisions.

The incorporation by reference of certain publications listed in the regulations is approved by the Director of the Federal Register as of April 15, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on March 19, 2010.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 8 Apr 2010

Clinton, MD, Washington Executive/Hyde Field, VOR/DME RWY 5, Orig, CANCELLED

* * * Effective 6 May 2010

West Palm Beach, FL, Palm Beach Intl, RNAV (RNP) Z RWY 10L, Orig-A

West Palm Beach, FL, Palm Beach Intl, RNAV (RNP) Z RWY 14, Orig-A

West Palm Beach, FL, Palm Beach Intl, RNAV (RNP) Z RWY 28R, Orig-A

West Palm Beach, FL, Palm Beach Intl, RNAV (RNP) Z RWY 32, Orig-A

Clinton, IA, Clinton Muni, Takeoff Minimums and Obstacle DP, Amdt 1

Guthrie Center, IA, Guthrie County Rgnl, Takeoff Minimums and Obstacle DP, Orig

Red Oak, IA, Red Oak Muni, NDB RWY 17, Amdt 9

Flora, IL, Flora Muni, RNAV (GPS) RWY 21, Amdt 1A

Mattoon/Charleston, IL, Coles County Memorial, ILS OR LOC RWY 29, Amdt 6A

Mount Carmel, IL, Mount Carmel Muni, NDB OR GPS RWY 4, Amdt 5, CANCELLED

Mount Carmel, IL, Mount Carmel Muni, VOR RWY 22, Amdt 10

Leonardtown, MD, St. Mary's County Rgnl, VOR OR GPS RWY 29, Amdt 6A, CANCELLED

Flint, MI, Bishop Intl, ILS OR LOC RWY 9, Amdt 22A

Flint, MI, Bishop Intl, ILS OR LOC RWY 27, Amdt 5

Sparta, MI, Paul C. Miller-Sparta, Takeoff Minimums and Obstacle DP, Amdt 2

Alexandria, MN, Chandler Field, RNAV (GPS) RWY 22, Orig

Bemidji, MN, Bemidji Rgnl, RNAV (GPS) RWY 25, Orig

Granite Falls, MN, Granite Falls Muni/Lenzen-Roe Meml Fld, Takeoff Minimums and Obstacle DP, Orig

Long Prairie, MN, Todd Field, RNAV (GPS) RWY 34, Amdt 1

Minneapolis, MN, Anoka County-Blaine Arpt (Janes Field), Takeoff Minimums and Obstacle DP, Amdt 5A

Ainsworth, NE, Ainsworth Muni, RNAV (GPS) RWY 17, Amdt 2

Ainsworth, NE, Ainsworth Muni, RNAV (GPS) RWY 35, Amdt 2

Newark, NJ, Newark Liberty Intl, ILS OR LOC RWY 22L; ILS RWY 22L (CAT II), Amdt 12

Ashland, OH, Ashland County, Takeoff Minimums and Obstacle DP, Amdt 3

Loris, SC, Twin City, Takeoff Minimums and Obstacle DP, Orig

Bridgewater, VA, Bridgewater Airpark, Takeoff Minimums and Obstacle DP, Amdt 2

* * * Effective 3 Jun 2010

Talkeetna, AK, Talkeetna, GPS RWY 36, Orig, CANCELLED

Talkeetna, AK, Talkeetna, NDB RWY 36, Amdt 2

Talkeetna, AK, Talkeetna, RNAV (GPS) RWY 36, Orig

Talkeetna, AK, Talkeetna, Takeoff Minimums and Obstacle DP, Amdt 2

Talkeetna, AK, Talkeetna, VOR-A, Amdt 10

Talkeetna, AK, Talkeetna, VOR/DME RWY 36, Amdt 2

Palmdale, CA, Palmdale Rgnl/USAF Plant 42, Takeoff Minimums and Obstacle DP, Amdt 2

Panama City, FL, Panama City-Bay County Intl, ILS RWY 14, Amdt 16, CANCELLED

Panama City, FL, Panama City-Bay County Intl, NDB RWY 14, Amdt 5, CANCELLED

Panama City, FL, Panama City-Bay County Intl, RNAV (GPS) RWY 5, ORIG-A, CANCELLED

Panama City, FL, Panama City-Bay County Intl, RNAV (GPS) RWY 14, Amdt 1, CANCELLED

Panama City, FL, Panama City-Bay County Intl, RNAV (GPS) RWY 23, Orig, CANCELLED

Panama City, FL, Panama City-Bay County Intl, RNAV (GPS) RWY 32, Amdt 1, CANCELLED

Panama City, FL, Panama City-Bay County Intl, Takeoff Minimums and Obstacle DP, Amdt 1, CANCELLED

Panama City, FL, Panama City-Bay County Intl, VOR OR TACAN RWY 14, Amdt 16, CANCELLED

Panama City, FL, Panama City-Bay County Intl, VOR OR TACAN RWY 32, Amdt 11, CANCELLED

Panama City, FL, Panama City-Bay County Intl, VOR OR TACAN-A, Amdt 14, CANCELLED

Moultrie, GA, Moultrie Muni, NDB-A, Orig-A

Ames, IA, Ames Muni, Takeoff Minimums and Obstacle DP, Amdt 4

Chicago/Romeoville, IL, Lewis University, Takeoff Minimums and Obstacle DP, Amdt 1

Goshen, IN, Goshen Muni, VOR RWY 27, Amdt 7A

Hettinger, ND, Hettinger Muni, Takeoff Minimums and Obstacle DP, Amdt 2

Reno, NV, Reno/Tahoe Intl, LOC/DME BC RWY 34L, Amdt 1C, CANCELLED

Fostoria, OH, Fostoria Metropolitan, Takeoff Minimums and Obstacle DP, Amdt 1

Kutztown, PA, Kutztown, RNAV (GPS)-A, Orig, CANCELLED

Kutztown, PA, Kutztown, Takeoff Minimums and Obstacle DP, Orig, CANCELLED

Kutztown, PA, Kutztown, VOR-B, Amdt 1B, CANCELLED

Blanding, UT, Blanding Muni, RNAV (GPS) RWY 35, Amdt 1

Brigham City, UT, Brigham City, NDB-A, Amdt 1

Brigham City, UT, Brigham City, RNAV (GPS) RWY 35, Amdt 1

Brigham City, UT, Brigham City, Takeoff Minimums and Obstacle DP, Amdt 6

Danville, VA, Danville Rgnl, GPS RWY 20, Orig-A, CANCELLED

Danville, VA, Danville Rgnl, RNAV (GPS) RWY 2, Orig

Danville, VA, Danville Rgnl, RNAV (GPS) RWY 20, Orig

Farmville, VA, Farmville Rgnl, GPS RWY 21, Orig, CANCELLED

Farmville, VA, Farmville Rgnl, NDB RWY 3, Amdt 6

Farmville, VA, Farmville Rgnl, RNAV (GPS) RWY 3, Orig

Farmville, VA, Farmville Rgnl, RNAV (GPS) RWY 21, Orig

Manitowish Waters, WI, Manitowish Waters, Takeoff Minimums and Obstacle DP, Orig

Casper, WY, Casper/Natrona County Intl, VOR/DME RWY 3, Amdt 5

Rock Springs, WY, Rock Springs-Sweetwater County, VOR-B, Amdt 4A, CANCELLED

[FR Doc. 2010-7663 Filed 4-14-10; 8:45 am]

BILLING CODE 4910-13-P